ENVIRONMENTAL PROTECTION AGENCY

40 CFR Part 52

[RME Docket No. R08-OAR-2005-UT-0001, FRL-7983-2]

Approval and Promulgation of Air Quality Implementation Plans; Utah; Rules Recodification

AGENCY: Environmental Protection Agency (EPA).

ACTION: Proposed rule.

SUMMARY: EPA is proposing to approve State Implementation Plan (SIP) revisions submitted by the Governor of Utah on September 20, 1999 and February 5, 2001. The September 20, 1999 submittal revises the numbering and format of the Utah Administrative Code (UAC) rules within Utah's SIP. The February 5, 2001 submittal restores a paragraph that was inadvertently deleted from Utah's rules when the State submitted their September 20, 1999 SIP submittal that renumbered the UAC rules. The intended effect of this action is to make these provisions federally enforceable. In addition, the approval of Utah's September 20, 1999 SIP revision supersedes and replaces previous SIP revisions submitted by Utah on October 26, 2000, September 7, 1999, two SIP revisions submitted February 6, 1996, and one submitted on January 27, 1995. Some of the provisions of the rules submitted in Utah's SIP revisions will be addressed at a later date by more recent SIP actions that have been submitted which supersede and replace the earlier SIP submittal actions. EPA will be removing Utah's Asbestos Work Practices, Contractor Certification, AHERA Accreditation and AHERA Implementation rule R307-1-8 and Eligibility of Pollution Control Expenditures for Sales Tax Exemption rule R307-1-6 from Utah's federally enforceable SIP because these rules are not generally related to attainment of the National Ambient Air Quality Standards (NAAQS) and are therefore not required to be in Utah's SIP. Finally, EPA will be removing Utah's National Emission Standards for Hazardous Air Pollutants rule R307-1-4.12. Utah has delegation of authority for NESHAPs in 40 CFR part 61 (49 FR 36368), pursuant to 110(k)(6) of the Act, therefore we are removing the existing language (R307-1-4.12) that was approved into Utah's current SIP because it is no longer required to be in the SIP. This action is being taken under section 110 of the Clean Air Act.

DATES: Comments must be received on or before November 14, 2005.

ADDRESSES: Submit your comments, identified by Docket ID No. R08-OAR-2005-UT-0001, by one of the following methods:

• Federal eRulemaking Portal: http://www.regulations.gov. Follow the on-line instructions for submitting comments.

• Agency Website: http://docket.epa.gov/rmepub/index.jsp. Regional Materials in EDOCKET (RME), EPA's electronic public docket and comment system for regional actions, is EPA's preferred method for receiving comments. Follow the on-line instructions for submitting comments.

• E-mail: long.richard@epa.gov and faulk.libby@epa.gov.

• Fax: (303) 312-6064 (please alert the individual listed in the FOR FURTHER INFORMATION CONTACT if you are faxing comments).

• Mail: Richard R. Long, Director, Air and Radiation Program, Environmental Protection Agency (EPA), Region 8, Mailcode 8P-AR, 999 18th Street, Suite 200, Denver, Colorado 80202-2466.

• Hand Delivery: Richard R. Long, Director, Air and Radiation Program, Environmental Protection Agency (EPA), Region 8, Mailcode 8P-AR, 999 18th Street, Suite 200, Denver, Colorado 80202-2466. Such deliveries are only accepted Monday through Friday, 8 a.m. to 4:55 p.m., excluding federal holidays. Special arrangements should be made for deliveries of boxed information.

Instructions: Direct your comments to Docket ID No. R08-OAR-2005-UT-0001. EPA's policy is that all comments received will be included in the public docket without change and may be made available at http://docket.epa.gov/rmepub/index.jsp, including any personal information provided, unless the comment includes information claimed to be Confidential Business Information (CBI) or other information whose disclosure is restricted by statute. Do not submit information that you consider to be CBI or otherwise protected through EDOCKET, regulations.gov, or e-mail. The EPA's Regional Materials in EDOCKET and federal regulations.gov website are “anonymous access” systems, which means EPA will not know your identity or contact information unless you provide it in the body of your comment. If you send an e-mail comment directly to EPA, without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET online or see the Federal Register of May 31, 2002 (67 FR 38102). For additional instructions on submitting comments, go to Section I. General Information of the SUPPLEMENTARY INFORMATION section of this document.

Docket: All documents in the docket are listed in the Regional Materials in EDOCKET index at http://docket.epa.gov/rmepub/index.jsp. Although listed in the index, some information is not publicly available, i.e., CBI or other information whose disclosure is restricted by statute. Certain other material, such as copyrighted material, is not placed on the Internet and will be publicly available only in hard copy form. Publicly available docket materials are available either electronically in Regional Materials in EDOCKET or in hard copy at the Air and Radiation Program, Environmental Protection Agency (EPA), Region 8, 999 18th Street, Suite 200, Denver, Colorado 80202-2466. EPA requests that if at all possible, you contact the individual listed in the FOR FURTHER INFORMATION CONTACT section to view the hard copy of the docket. You may view the hard copy of the docket Monday through Friday, 8 a.m. to 4 p.m., excluding federal holidays.

FOR FURTHER INFORMATION CONTACT: Libby Faulk, EPA, Region 8, 999 18th Street, Ste. 200 (8P-AR), Denver, CO, 80202-2466, (303) 312-6083, faulk.libby@epa.gov.

SUPPLEMENTARY INFORMATION: Throughout this document, wherever “we”, “us”, or “our” are used, we mean the Environmental Protection Agency (EPA).

Table of Contents

I. General Information

II. What Is the Purpose of this Proposed Action?

III. Utah Rules EPA is Proposing to Act On

IV. Statutory and Executive Order Review

I. General Information

Definitions—For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words State mean the State of Utah, unless the context indicates otherwise.

A. What Should I Consider as I Prepare My Comments for EPA?

1. Submitting CBI. Do not submit this information to EPA through Regional Materials in EDOCKET, regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

I. Identify the rulemaking by docket number and other identifying information (subject heading, Federal Register date and page number).

II. Follow directions—The agency may ask you to respond to specific questions or organize comments by referencing a Code of Federal Regulations (CFR) part or section number.

III. Explain why you agree or disagree; suggest alternatives and substitute language for your requested changes.

IV. Describe any assumptions and provide any technical information and/or data that you used.

V. If you estimate potential costs or burdens, explain how you arrived at your estimate in sufficient detail to allow for it to be reproduced.

VI. Provide specific examples to illustrate your concerns, and suggest alternatives.

VII. Explain your views as clearly as possible, avoiding the use of profanity or personal threats.

Make sure to submit your comments by the comment period deadline identified.

II. What Is the Purpose of This Proposed Action?

In this document we are addressing seven State Implementation Plan (SIP) revisions, submitted by the Governor of Utah dated: February 5, 2001, October 26, 2000, September 20, 1999, September 7, 1999, two SIP revisions submitted February 6, 1996, and one submitted on January 27, 1995. These SIP revisions modify the Utah Administrative Code (UAC) rules within Utah's SIP. Each of these SIP submittals is described in more detail below.

The September 20, 1999 submittal revises the numbering and format of the UAC rules within Utah's SIP. The renumbering and reformatting of the UAC rules within Utah's SIP provides for a more consistent numbering system and a coherent structure allowing provisions to be located more easily within Utah's rules. Some provisions of the rules submitted in Utah's September 20, 1999 SIP revision will be addressed at a later date.

We are not acting on a portion of Utah's September 7, 1999 SIP submittal that deletes rule R307-150-1 (existing rule number R307-1-2.2) and rule R307-150-2 (existing rule number R307-1-3.1.7) because the renumbering of these rules have never been approved into the SIP and have since been superseded and replaced by Utah's February 5, 2001 and October 9, 1998 SIP submittals'. Rule R307-150-1 is restored to its appropriate rule section in Utah's February 5, 2001 SIP submittal which we'll be acting on in this action. The February 5, 2001 submittal contains a non-substantive change to correct a minor change that was submitted in the September 20, 1999 submittal that inadvertently deleted rule R307-102-1(2) from Utah's rules and moved the rule to R307-150-1. Rule renumbering R307-150-2 will not be addressed in this action because it will be addressed at a later date when EPA addresses Utah's October 9, 1998 SIP submittal. Therefore, the existing rule R307-1-3.7 which would have been renumbered to R307-150-2 will remain in Utah's SIP.

We are proposing to not act on Utah's February 6, 1996 SIP submittal that pertains to Utah's rule R307-2 and portions of Utah's February 6, 1996 SIP submittal that pertains to rule R307-1-4. These SIP submittals, and portions thereof, are superseded and replaced by Utah's September 20, 1999 SIP submittal.

We are proposing to act on a portion of Utah's January 27, 1995 SIP submittal that pertains to Utah's rules R307-1-2.3.2. Utah's rule R307-1-2.3.2 adds a reference to Utah's Code to clarify where to find further information regarding Utah's variance rule. We will not be addressing Utah's revisions to rule R307-1-3.1.4 or R307-1-3.2.3. Utah's rule R307-1-3.1.4 will be addressed at a later date when EPA addresses Utah's October 9, 1998 SIP submittal. Therefore, rule R307-1-3.1.4 will remain in the current SIP. Utah's rule R307-1-3.2.3 will be addressed at a later date when EPA addresses Utah's PM10 maintenance plan for Utah and Salt Lake County. Therefore, Utah's rule R307-1-3.2.3 will remain in the current SIP.

Finally, we are acting on removing Utah's asbestos rule R307-1-8 from Utah's federally enforceable SIP because the rule is not generally related to attainment of the NAAQS and is therefore, not appropriate to be in Utah's SIP. We are also proposing to not act on Utah's October 26, 2000 SIP submittal because the SIP pertains to changes being made to Utah's asbestos rule R307-1-8 that we are removing from Utah's SIP in this action. EPA informed UDAQ of our intent to not act on Utah's October 26, 2000 SIP submittal and our intent to remove existing asbestos rule language (R307-1-8) from Utah's federally approved SIP in a letter to UDAQ, dated April 2, 2002.

By this action, EPA has reviewed the Utah Department of Air Quality's (UDAQ) SIP submittals and found that these SIP submittals only renumber and restructure UDAQ's rules. EPA has not reviewed the substance of these rules as part of this action; EPA approved these state rules into the SIP in previous rulemakings. The EPA is now merely approving the renumbering system submitted by the State. The current version of UDAQ's rules does not contain substantive changes from the prior codification that we approved into the SIP. EPA acknowledges that there are ongoing discussions with Utah to address EPA's concerns with some rule language that EPA previously approved into the Utah SIP. In an April 18, 2002 letter from Richard Sprott, Director of Utah's Division of Air Quality, to Richard Long, Director of the Air and Radiation Program in EPA Region 8, UDAQ committed to work with us to address our concerns with the Utah SIP. Because the SIP submittals only restructure and renumber the existing SIP-approved regulations, contain no substantive changes, and UDAQ has committed to address EPA's concerns, we believe it is appropriate to propose to approve the submittal. Approving the restructured and renumbered Utah rules into the SIP will also facilitate future discussions on the rules. EPA will continue to require the State to correct any rule deficiencies despite EPA's approval of this recodificiation.

The specific changes being proposed in this action are explained in more detail below (see III.A., III.B., and III.C.).

III. Utah Rules EPA Is Proposing To Act On

We reviewed Utah's seven submittals and placed each rule section into a category based on the changes that were made in the rule and/or our action on the rule. The first category (see III.A. below) consists of those rules (and all subsections of the rule) which have been recodified and contain non-substantive changes to the text of the rule. We are proposing to approve the recodified rules and the non-substantive changes. The second category (see III.B. below) consists of rules (and all subsections of the rule) that we are proposing to take no action on or are acting to remove the rule language from Utah's SIP. The rule(s) listed under category two have either never been approved into the SIP or have been approved into the SIP and are not appropriate to be in the federally approved SIP because the rule is not generally related to attainment of the National Ambient Air Quality Standards (NAAQS). The third category (see III.C. below) consists of rules (and all subsections of the rule) that have been superseded and replaced by other Utah SIP submittals that recodifies Utah's rules or consists of rule(s) (and all subsections of the rule) that we will be addressing at a later date.

A. Category 1

We are proposing to approve the following rule changes of the Utah Air Quality Rules because the rules have only been renumbered, contain non-substantive changes to the rule that do not effect the meaning of the rule and/or have been modified to move definitions that have already been approved into the SIP to specific rule sections in which the definitions apply. These renumbered rules and all subsections within these rules supersede and replace the prior numbered rules and subsections in Utah's federally approved SIP. These rule changes were submitted under UDAQ's SIP submittals dated January 27, 1995, September 7, 1999, September 20, 1999, and February 5, 2001. Any SIP revision submitted by the State after February 5, 2001 that is not addressed in this notice and has been approved by EPA will remain effective in the SIP and will not be replaced by this action.

1. Rule R307-101—General Requirements (previously found under R307-1). This section contains UDAQ's Forward and Definitions that apply to Utah's air quality rules. We are approving the renumbering of this rule section and all subsections of this rule with the exception of the definitions for “actual emissions,” “major modification,” “Part 70 Source,” “significant,” and “volatile organic compound.” (See III.B.1.a. and b. below). R307-101 has only been renumbered and contains no changes to the language of the rule that would affect the meaning of the rule. UDAQ relocated some definitions from rule R307-101 to specific rule sections throughout Utah's rules to better coordinate specific definitions that apply in specific rule sections. The definitions that were relocated to other rule sections contain no changes to the language that would affect the meaning of the rule.

2. Rule R307-102—General Requirements: Broadly Applicable Requirements (previously found under R307-1-2.1, R307-1-2.3, R307-1.2.5, and R307-1-4.8). We are approving the renumbering of this rule section and all subsections of this rule that were submitted in Utah's September 20, 1999 and February 5, 2001 SIP submittals”. In Utah's September 20, 1999 SIP submittal Utah inadvertently moved rule R307-1-2.2 to rule section R307-150-1 (State effective September 15, 1998). When Utah realized their error, Utah submitted a SIP revision, dated September 7, 1999 (State effective March 4, 1999), deleting the rule from R307-150-1 and submitted a new SIP revision, dated February 5, 2001 (State effective August 3, 2000), that relocated the original rule R307-1-2.2 that was inadvertently moved to R307-150-1 to its appropriate location under the new numbering R307-102-1. We are also acting to approve a portion of Utah's January 27, 1995 SIP submittal that pertains to rule R307-1-2.3.1 which in this action is being renumbered to R307-102-4(1) through the approval of Utah's September 20, 1999 SIP submittal. Utah's January 27, 1995 SIP submittal that pertains to rule R307-1-2.3.2 (renumbered under this action as R307-102-4(1)) added a reference to Utah's code 19-2-113 clarifying where to find further information regarding applications for variances. EPA considers this change to be a non-substantive change that does not affect the meaning of the rule and is therefore being approved. EPA is also approving rule R307-102-6 which adds language to clarify that should there be more stringent controls listed within Utah's R307 rules, those requirements must be met. EPA considers this change to be a non-substantive change that does not affect the meaning of the rule, but simply clarifies rules which should be met within the SIP.

3. Rule R307-105—General Requirements: Emergency Controls (previously found under R307-1-5.1 through R307-1-5.4). We are approving the renumbering of this rule section and all subsections of this rule. Rule R307-105 and all subsections of the rule have only been renumbered and contain no changes to the language of the rule that would affect the meaning of the rule.

4. Rule R307-107—General Requirements: Unavoidable Breakdown (previously found under R307-1-4.7 through R307-1-4.7.4). We are approving the renumbering of this rule section and all subsections of this rule. Rule R307-107-1 through R307-4 and all subsections of the rule have only been renumbered and contain no changes to the language of the rule that would affect the meaning of the rule. We are also approving the addition of rule R307-107-6 which adds language to clarify that should there be more stringent controls listed within Utah's R307 rules, those requirements must be met. EPA considers this change to be a non-substantive change that does not affect the meaning of the rule but simply clarifies rules which should be met within the SIP.

5. Rule R307-110—General Requirements: State Implementation Plan (previously found under R307-2). We are approving the renumbering and adoption of the following rules because the rules have only been renumbered and contain no changes to the language of the rule that would effect the meaning of the rule: R307-110-1 through R307-110-9, R307-110-11, R307-110-13 through R307-110-15, R307-110-18, R307-110-20 through R307-110-28, R307-110-30, and R307-110-32. EPA will not be addressing the remainder of rule section R307-110 for reasons discussed under III.C.4. below.

6. Rule R307-115—General Conformity (previously found under R307-19). We are approving the renumbering of this rule section and all subsections of this rule. Rule R307-115 and all subsections of the rule have only been renumbered and contain no changes to the language of the rule that would affect the meaning of the rule.

7. Rule R307-130—General Penalty Policy (previously found under R307-4-1 through R307-4-4). We are approving the renumbering of this rule section and all subsections of this rule. Rule R307-130 and all subsections of the rule have only been renumbered and contain no changes to the language of the rule that would affect the meaning of the rule.

8. Rule R307-165—Emission Testing (previously found under R307-1-3.4.1 through R307-1-3.4.4). We are approving the renumbering of this rule section and all subsections of this rule. Rule R307-165 and all subsections of the rule have only been renumbered and contain no changes to the language of the rule that would affect the meaning of the rule.

9. Rule R307-201—Emission Standards: General Emission Standards (previously found under R307-1-4.1, R307-1-4.9, R307-1-4.13.2, and R307-4.1.2 through R307-4.1.9). We are approving the renumbering of this rule section and all subsections of this rule. Rule R307-201 and all subsections of the rule have only been renumbered and contain no changes to the language of the rule that would affect the meaning of the rule.

10. Rule R307-202—Emission Standards: General Burning (previously found under R307-1-2.4 through R307-1-2.4.5). We are approving the renumbering of this rule section and all subsections of this rule. Rule R307-202 and all subsections of the rule have only been renumbered and contain no changes to the language of the rule that would affect the meaning of the rule.

11. Rule R307-203—Emission Standards: Sulfur Content of Fuels (previously found under R307-1-4.2 and R307-1-4.13.1). We are approving the renumbering of this rule section and all subsections of this rule. Rule R307-203 and all subsections of the rule have only been renumbered and contain no changes to the language of the rule that would affect the meaning of the rule. EPA is also approving rule R307-203-3 which adds language to clarify that should there be more stringent controls listed within Utah's R307 rules, those requirements must be met. EPA considers this change to be a non-substantive change that does not affect the meaning of the rule, but simply clarifies rules which should be met within the SIP.

12. Rule R307-206—Emission Standards: Abrasive Blasting (previously found under R307-1-4.10.1, 2 and 3). We are approving the renumbering of this rule section and all subsections of this rule. Rule R307-206 and all subsections of the rule have only been renumbered and contain no changes to the language of the rule that would affect the meaning of the rule. EPA is also approving the addition of rule R307-206-1 which includes definitions that are already approved in the existing SIP. EPA is also approving rule R307-206-5 which adds language to clarify that should there be more stringent controls listed within Utah's R307 rules, those requirements must be met. EPA considers these changes to be a non-substantive change that does not affect the meaning of the rule but simply clarifies rules which should be met within the SIP.

13. Rule R307-302—Davis, Salt Lake, Utah Counties: Residential Fireplaces and Stoves (previously found under R307-1-4.13.3). We are approving the renumbering of this rule section and all subsections of this rule with the exception of rule section R307-302-2(4) and R307-302-3 (see III.C.10. below). EPA is also approving the addition of rule R307-302-1 which includes definitions that are already approved in the existing SIP. The remainder of rule R307-302 and all subsections of the rule have only been renumbered and contain no changes to the language of the rule that would affect the meaning of the rule.

14. Rule R307-305—Davis, Salt Lake and Utah Counties and Ogden City, and Nonattainment Areas for PM10: Particulates (previously found under R307-1-4.1.1, R307-1-3.2.1 through R307-1-3.2.6). We are approving the renumbering of this rule section and all subsections of this rule. Rule R307-305 and all subsections of the rule have only been renumbered and contain no changes to the language of the rule that would affect the meaning of the rule. In addition to the approval of renumbering of rule R307-305, EPA is retaining Utah's rule R307-1-3.2.3. Utah submitted a SIP revision, dated January 27, 1995, requesting the deletion of rule R307-1-3.2.3(E) which EPA will be addressing at a later date; therefore, this rule will remain in the current SIP.

15. Rule R307-307—Davis, Salt Lake, and Utah Counties: Road Salting and Sanding (previously found under R307-1-3.2.7.A, B and C). We are approving the renumbering of this rule section and all subsections of this rule. Rule R307-307 and all subsections of the rule have only been renumbered and contain no changes to the language of the rule that would affect the meaning of the rule.

16. Rule R307-325—Davis and Salt Lake counties and Ozone Nonattainment Areas: Ozone Provisions (previously found under R307-1-4.9.8 and R307-14-1.F). We are approving the renumbering of this rule section and all subsections of this rule. Rule R307-325 and all subsections of the rule have only been renumbered and contain no changes to the language of the rule that would affect the meaning of the rule.

17. Rule R307-326—Davis and Salt Lake Counties and Ozone Nonattainment Areas: Control of Hydrocarbon Emissions in Refineries (previously found under R307-1-4.9.3). We are approving the renumbering of this rule section and all subsections of this rule. EPA is also approving the addition of rule R307-326-1 which includes definitions that are already approved in the existing SIP. Rule R307-326 and all subsections of the rule have only been renumbered and contain no changes to the language of the rule that would affect the meaning of the rule.

18. Rule R307-327—Davis and Salt Lake Counties and Ozone Nonattainment Areas: Petroleum Liquid Storage (previously found under R307-1-4.9.1). We are approving the renumbering of this rule section and all subsections of this rule. EPA is also approving the addition of rule R307-327-1(2) which includes definitions that are already approved in the existing SIP. Rule R307-327 and all subsections of the rule have only been renumbered and contain no changes to the language of the rule that would affect the meaning of the rule.

19. Rule R307-328—Davis and Salt Lake Counties and Ozone Nonattainment Areas: Gasoline Transfer and Storage (previously found under R307-1-4.9.2). We are approving the renumbering of this rule section and all subsections of this rule. EPA is also approving the addition of rule R307-328-1 which includes definitions that are already approved in the existing SIP. Rule R307-328 and all subsections of the rule have only been renumbered and contain no changes to the language of the rule that would affect the meaning of the rule.

20. Rule R307-335—Davis and Salt Lake Counties and Ozone Nonattainment Areas: Degreasing and Solvent Cleaning Operations (previously found under R307-1-4.9.4). We are approving the renumbering of this rule section and all subsections of this rule. EPA is also approving the addition of rule R307-335-1 which includes definitions that are already approved in the existing SIP. Rule R307-335 and all subsections of the rule have only been renumbered and contain no changes to the language of the rule that would affect the meaning of the rule.

21. Rule R307-340 Davis and Salt Lake Counties and Ozone Nonattainment Areas: Surface Coating Processes (previously found under R307-1-4.9.6). We are approving the renumbering of this rule section and all subsections of this rule. EPA is also approving the addition of rule R307-340-1 which includes definitions that are already approved in the existing SIP. Rule R307-340 and all subsections of the rule have only been renumbered and contain no changes to the language of the rule that would affect the meaning of the rule.

22. Rule R307-341—Davis and Salt Lake Counties and Ozone Nonattainment Areas: Cutback Asphalt (previously found under R307-1-4.9.5). EPA is also approving the addition of rule R307-341-1 which includes definitions that are already approved in the existing SIP. We are approving the renumbering of this rule section and all subsections of this rule. Rule R307-341 and all subsections of the rule have only been renumbered and contain no changes to the language of the rule that would affect the meaning of the rule.

23. Rule R307-342—Davis and Salt Lake Counties and Ozone Nonattainment Areas: Qualification of Contractors, Test Procedures for Testing of Vapor Recovery Systems for Gasoline Delivery Tanks (previously found under R307-3). We are approving the renumbering of this rule section and all subsections of this rule. Rule R307-342 and all subsections of the rule have only been renumbered and contain no changes to the language of the rule that would affect the meaning of the rule.

24. Rule R307-401—Permit: Notice of Intent and Approval Order. In this action we are acting only to approve the recodification of subsections R307-401-9 and R307-401-10(1) (previously found under R307-1-3.1.11 and 12). All subsections of rule R307-401-9 and R307-401-10(1) have only been renumbered and contain no changes to the language of the rule that would affect the meaning of the rule. For EPA's action on the remainder of the rules located under R307-401 (see III.C.11 below).

25. Rule R307-403 “ Permits: New and Modified Sources in Nonattainment Areas and Maintenance Areas (previously found under R307-1-3.3). We are approving the renumbering of this rule section and all subsections of this rule. EPA is also approving the addition of rule R307-403-1 which includes definitions that are already approved in the existing SIP. Rule R307-403 and all subsections of the rule have only been renumbered and contain no changes to the language of the rule that would affect the meaning of the rule.

26. Rule R307-405—Permits: Prevention of Significant Deterioration of Air Quality (PSD) (previously found under R307-1-3.6). We are approving the renumbering of this rule section and all subsections of this rule. EPA is also approving the addition of rule R307-405-1 which includes definitions that are already approved in the existing SIP. Rule R307-405 and all subsections of the rule have only been renumbered and contain no changes to the language of the rule that would affect the meaning of the rule.

27. Rule R307-406—Visibility (previously found under R307-1-3.10). We are approving the renumbering of this rule section and all subsections of this rule. EPA is also approving the addition of rule R307-406-1 which includes definitions that are already approved in the existing SIP. Rule R307-406 and all subsections of the rule have only been renumbered and contain no changes to the language of the rule that would affect the meaning of the rule.

28. Rule R307-413—Permits: Exemption and Special Provisions (previously found under R307-7-2 and 3). In this action we are approving the recodification of rule R307-413-7 (previously found under R307-7-2 and 3). Rule R307-413-7 has only been renumbered and contains no changes to the language of the rule that would affect the meaning of the rule. We will not be acting on rule sections R307-413-1 through R307-413-6, R307-413-8 and R307-413-9 for the reasons explained in III.C.12. below.

29. Rule R307-414—Permits: Fees for Approval Orders (previously found under R307-1-3.9). We are approving the renumbering of this rule section and all subsections of this rule. Rule R307-414 and all subsections of the rule have only been renumbered and contain no changes to the language of the rule that would affect the meaning of the rule.

B. Category 2

Category two consists of some of Utah's rules (and includes all subsections of the rule) that we are not acting on approving into the SIP or are acting to remove the rule language from the SIP and a discussion of why we believe we cannot act to approve the rules in the SIP. These rule changes were submitted by UDAQ on January 27, 1995, September 20, 1999, and October 26, 2000.

1. We will not be acting on the following rule definition(s) into Utah's SIP either because the definition(s) is not required to be approved into Utah's SIP or because the definition(s) has been superseded and replaced by more recent SIP submittal actions and will therefore be addressed in those actions:

a. Utah's September 20, 1999 SIP submittal wherein Utah recodified Utah's rules included the definition “Part 70 Source.” We will not be approving this definition in this action. This definition has never been approved into Utah's SIP and is not required to be in Utah's SIP.

b. Utah's September 20, 1999 SIP submittal wherein Utah recodified Utah's rules included the definition “actual emissions,” “major modification,” “significant” and “volatile organic compound.” The “actual emissions” and “major modification” definitions have been revised by the State and were approved by EPA August 19, 2004 (69 FR 51368). The “significant” and “volatile organic compound” definitions have been revised by the State and were approved by EPA on February 21, 2002 (67 FR 7961).

2. R307-121—General Requirements: Eligibility of Expenditures for Purchase of Vehicles that Use Cleaner Burning Fuels or Conversion of Vehicles and Special Fuel Mobile Equipment to Use Cleaner Burning Fuels for Corporate and Individual Income Tax Credits. This rule section has never been approved into Utah's SIP. We are not taking action to incorporate rule R307-121 that pertains to corporate and individual income tax credit into the SIP because the provisions of R307-122 are not generally related to attainment or maintenance of the NAAQS. In a letter to EPA from UDAQ, dated April 7, 2005, UDAQ agreed with EPA's action to not approve this rule section into Utah's SIP.

3. R307-122—General Requirements: Eligibility of Expenditures for Purchase and Installation Costs of Fireplaces and Wood Stoves that Use Cleaner Burning Fuels. This rule section has never been approved into Utah's SIP. We are not taking action to incorporate rule R307-122 into the SIP that pertains to tax credit because the provisions of R307-122 are not generally related to attainment or maintenance of the NAAQS. In a letter to EPA from UDAQ, dated April 7, 2005, UDAQ agreed with EPA's action to not approve this rule section into Utah's SIP.

4. R307-135—Enforcement Response Policy for Asbestos Hazard Emergency Response Act. We are not taking action to incorporate rule R307-135 (formerly R307-4-5 through R307-4-11 in Utah's State rules) into the SIP because provisions of R307-135 are not generally related to attainment or maintenance of the NAAQS and have never been approved into Utah's SIP. Rule R307-135 provisions implement requirements from the Asbestos Hazard Emergency Response Act (AHERA) of 1986, while SIP rules implement Clean Air Act (CAA) Title I provisions. In a letter to EPA from UDAQ, dated April 7, 2005, UDAQ agreed with EPA's action to not approve this rule section into Utah's SIP.

5. R307-214—National Emission Standards for Hazardous Air Pollutants. Rule R307-214 (formerly rule R307-10 in Utah's State rules) is the rule the State uses to implement our national emission standards for hazardous air pollutants (NESHAPs) regulations in 40 CFR part 61. Given that the State has delegation of authority for NESHAPs in 40 CFR part 61 (49 FR 36368), pursuant to 110(k)(6) of the Act, we are not approving the new codification of R307-214 into the SIP and are removing existing language that was approved into Utah's current SIP, rule R307-1-4.12, for the same reason stated above. In a letter to EPA from the UDAQ, dated April 7, 2005, UDAQ agreed with EPA's action to not approve this rule section into Utah's SIP.

6. R307-215—Emission Standards: Acid Rain Requirements. We are not taking action to incorporate rule R307-215 (formerly R307-16-02 in Utah's State rules) into the SIP. The provisions of R307-215 have never been approved into Utah's SIP and are not required to be incorporated into the SIP. Rule R307-215 incorporates by reference Acid Rain NOX emission limitation requirements (40 CFR Part 76) from Title IV of the CAA, while SIP rules implement CAA Title I provisions. In a letter to EPA from UDAQ, dated April 7, 2005, UDAQ agreed with EPA's action to not approve this rule section into Utah's SIP.

7. R307-220—Emission Standards: Plan for Designated Facilities. On October 3, 2002, the State adopted rules for Plans for Designated Facilities. We believe we have no legal basis in the Act for approving Utah's rule for Plans for Designated Facilities, rule R307-220, into the SIP because these rules are not generally related to attainment or maintenance of the NAAQS and have never been approved into Utah's SIP. Therefore, we are not taking action to incorporate R307-220 into Utah's SIP. However, on January 14, 1998 (63 FR 2156), we did approve these rules as meeting section 111(d) of the Act. See 40 CFR 62.11110-11112. In a letter to EPA from UDAQ, dated April 7, 2005, UDAQ agreed with EPA's action to not approve this rule section into Utah's SIP.

8. R307-221—Emission Standards: Emission Controls for Existing Municipal Solid Waste Landfills. On September 3, 1999, the State adopted rules for Municipal Solid Waste Landfills. We believe we have no legal basis in the Act for approving Utah's rule for Municipal Solid Waste Landfills, rule R307-221, into the SIP because these rules are not generally related to attainment or maintenance of the NAAQS and have never been approved into Utah's SIP. Therefore, we are not taking action to incorporate R307-221 into the SIP. However, on January 14, 1998 (63 FR 2156), we did approve these rules as meeting section 111(d) of the Act. See 40 CFR 62.11110-11112. In a letter to EPA from UDAQ, dated April 7, 2005, UDAQ agreed with EPA's action to not approve this rule section into Utah's SIP.

9. R307-320—Davis, Salt Lake and Utah Counties, and Ogden City: Employer Based Trip Reduction Program. We are not acting to approve rule section R307-320 into the SIP. Rule R307-320 has never been approved into Utah's SIP and is not required to be incorporated into the SIP. In a letter to EPA from UDAQ, dated April 7, 2005, UDAQ agreed with EPA's action to not approve this rule section into Utah's SIP.

10. R307-332—Davis and Salt Lake Counties and Ozone Nonattainment Areas: Stage II Vapor Recovery Systems. Rule R307-332 (formerly R307-14-10 in Utah's State rules) had never been approved into the Utah SIP. On April 6, 1994 (59 FR 16262) EPA removed the requirements of this rule for “moderate” and “attainment” areas, and the rule was preserved among the State air quality rules for the eventuality that Davis and Salt Lake Counties would become a non-attainment area. However, since 1994 more effective methods have emerged to achieve meeting the NAAQS if Davis and Salt Lake County should become a nonattainment area, therefore, we are not taking action to incorporate this rule section into the SIP. In a letter to EPA from UDAQ, dated April 7, 2005, UDAQ agreed with EPA's action to not approve this rule section into Utah's SIP.

11. R307-410—Permits: Emissions Impact Analysis. We will not be acting to approve the renumbering of rule section R307-410. Revisions were made to this rule section by Utah and submitted to EPA in a SIP submittal, dated November 20, 1996 and May 12, 1998, and were subsequently withdrawn by Utah in a letter addressed to EPA, Regional Administrator, William Yellowtail, dated October 16, 2000. Because Utah's September 20, 1999 SIP, which reorganizes the States rules, still includes the revisions that were made to R307-410 that were ultimately withdrawn by the State, EPA cannot act to approve this rule section. Therefore, the existing rules R307-1-3.7 will remain current in the SIP.

12. R307-415—Permits: Operating Permit Requirements. We are not taking action to incorporate rule R307-415 (formerly R307-15 in Utah's State rules) into the SIP. Provisions of R307-415 have never been approved into Utah's SIP and are not required to be approved into the SIP. Rule R307-415 provisions implement operating permit program requirements from Title V of the CAA, while SIP rules implement CAA Title I provisions. In a letter to EPA from the UDAQ dated April 7, 2005, UDAQ agreed with EPA's action to not approve this rule section into Utah's SIP.

13. R307-417—Permits: Acid Rain Sources. We are not taking action to incorporate R307-417 (formerly R307-17-1 in Utah's State rules) into the SIP. Provisions of R307-417 have never been approved into Utah's SIP and are not required to be approved into the SIP. Rule R307-417 incorporates by reference Acid Rain permitting (40 CFR part 72) requirements from Title IV of the CAA, while SIP rules implement the CAA Title I provisions. In a letter to EPA from UDAQ, dated April 7, 2005, UDAQ agreed with EPA's action to not approve this rule section into Utah's SIP.

14. R307-1-6 (revised number R307-120)—General Requirements: Tax Exemption for Air and Water Pollution Control Equipment. We are removing from Utah's SIP rule R307-1-6 and all subsections of this rule. EPA is also not acting on approving the new recodified number for R307-1-6 which is R307-120. This rule language pertains to State Sales Tax Exemptions for Pollution Control Expenditures and is not generally related to attainment of the NAAQS and is, therefore, not appropriate to be in Utah's SIP. In a letter to EPA from UDAQ, dated April 7, 2005, UDAQ agreed with EPA's action to remove rule R307-1-6 from Utah's SIP and to not approve rule R307-120.

15. R307-1-8 (revised number R307-801)—Asbestos. We are removing from Utah's SIP rule R307-1-8 and all subsections of this rule. EPA is also not acting on approving the new recodified number for R307-1-8 which is R307-801. Finally, we are not acting on Utah's October 26, 2000 SIP submittal because the SIP pertains to changes being made to Utah's asbestos rule R307-1-8 that we are removing from Utah's SIP in this action. This rule language pertains to the regulation of asbestos and is generally not related to attainment of the NAAQS; therefore, it is not appropriate to be in Utah's SIP. EPA informed UDAQ of our intent to not act on Utah's October 26, 2000 SIP submittal and our intent to remove existing asbestos rule language (R307-1-8) from Utah's federally approved SIP in a letter to UDAQ, dated April 2, 2002. In a letter to EPA from UDAQ, dated April 7, 2005, UDAQ agreed with EPA's action to remove rule R307-1-8 from Utah's SIP and to not approve rule R307-801.

C. Category 3

Category three consists of rule(s) (and all subsections of the rule) that we will be addressing at a later date through other SIP submittal revisions that Utah has or intends to submit that supersede and replace the existing rules. These rule changes were submitted by UDAQ on January 27, 1995, February 6, 1996, and September 20, 1999.

1. Utah's February 6, 1996 SIP submittal titled “Expansion of R307-2” that recodified and expanded Utah's R307-2. We will not be acting on this SIP submittal because the September 20, 1999 SIP submittal that we are acting on in this notice supersedes and replaces the February 6, 1996 SIP submittal and relocates rules that would have been found under R307-2 to new rule section R307-110.

2. Portions of Utah's February 6, 1996 SIP submittal that recodifies Utah's Emission Standards rule(s) that pertain to subsections: R307-1-4.9 and R307-1-4.12. We will not be acting on these specific rules within this SIP submittal because the September 20, 1999 SIP submittal that we are acting on in this notice supersedes and replaces this revision and relocates rule R307-1-4.9 to rule section R307-325 and rule R307-1-4.12 to rule section R307-203.

3. Utah's February 6, 1996 SIP submittal that recodifies Utah's Emission Standards rule R307-1-4 that pertains to changes made in subsection R307-1-4.6. We will not be acting on subsection R307-1-4.6 of this SIP submittal because this subsection has been superseded and replaced in Utah's SIP submittal dated September 7, 1999 and February 11, 2003 and was approved by EPA on May 15, 2003 (68 FR 26210). Rule R307-1-4.6 is now located under rule section R307-170.

4. Rule R307-110—General Requirements: State Implementation Plan. We are not proposing to act on R307-110-10, R307-110-17, R307-110-19, R307-110-33, and R307-110-35 because these rules were superseded by more recent SIP submittal that have already been approved into Utah's federally approved SIP (see 65 FR 37286, 67 FR 57744, and 67 FR 62891). We are also not addressing rule R307-110-12, R307-110-31, R307-110-34, and R307-110-35 because this rule section will be addressed when EPA addresses Utah's April 1, 2004 and November 29, 2004 SIP submittals. Therefore, the existing rule R307-2-12 that would have been renumbered to R307-110-12 will remain in the SIP. We are also not acting to approve R307-110-16 because Utah repealed this rule from the federally approved SIP in their June 17, 1998 SIP submittal that EPA approved on May 20, 2002 (67 FR 35442). We are not addressing rule R307-110-29 because this rule was revised in Utah's February 6, 1996 SIP submittal which EPA will be addressing at a later date. Therefore, the existing rule R307-2-18 that would have been renumbered to R307-110-29 will remain in the SIP.

5. Utah's September 20, 1999 SIP submittal that recodifies Utah's Continuous Emission Monitoring Systems rule R307-170. We will not be acting on this rule section of the September 20, 1999 SIP submittal because this rule section was already approved by EPA on May 15, 2003 (68 FR 26210).

6. Utah's January 27, 1995 SIP submittal pertaining to rule R307-1-3.1.4 which deletes a reference to unspecify other state, local and federal requirements. We will not be addressing this specific rule revision because the revision has been superseded and replaced by Utah's October 9, 1998 SIP submittal which will be addressed at a later date. Therefore, current rule section R307-1-3.1.4 will remain in the existing SIP.

7. Utah's February 6, 1996 SIP submittal that recodifies Utah's Emission Standards rule R307-1-4 that pertains to changes made in subsection R307-1-4.5. We will not be addressing this rule section of this SIP submittal. This rule section will be addressed at a later date when the UDAQ submits revisions to UDAQ's September 20, 1999 SIP submittal that pertains to Utah's fugitive emissions and fugitive dust rules. Therefore, current rule section R307-1-4.5 will remain in the existing SIP.

8. Utah's September 20, 1999 SIP submittal that recodifies Utah's rules includes rules R307-150 titled “Periodic Inventories” and rule R307-155 titled “Emission Inventories”. Utah's rule section R307-150 has been superseded and replaced by Utah's February 5, 2001 SIP which we are specifically acting on approving in this action for rule section R307-150-1 (see III.A.2. above) and Utah's rule section R307-150-2 and R307-155 will be addressed at a later date when EPA takes action on Utah's October 9, 1998 SIP submittal. Therefore, current rule R307-1-3.1.7 which would have been renumbered to R307-150-2 and current rule R307-1-3.5 which would have been renumbered to R307-155 will remain in the existing SIP.

9. Rule R307-301—Utah and Weber Counties: Oxygenated Gasoline Program (previously found under R307-8). We will not be acting on this rule section in this action. This rule section will be addressed when EPA addresses Utah's April 1, 2004 SIP submittal in which UDAQ requested that EPA remove this rule language from Utah's current SIP.

10. Utah's September 20, 1999 SIP submittal that recodifies Utah's rules includes rules R307-302-2(4) and R307-302-3 which we will not be acting on in this action. Rule section R307-302-2(4) has never been approved into the SIP and is not required to be in the federally enforceable SIP. In a letter to UDAQ from EPA, dated October 6, 2000, EPA informed UDAQ that if a PM10 nonattainment area attained the standard with at least 3 years of clean air quality data, and as long as that area continues to attain the standard, the section 172(c)(9) contingency measure requirement will not apply. Rule section R307-302-3 will be addressed when EPA addresses Utah's April 1, 2004 SIP submittal.

11. R307-401—Permit: Notice of Intent and Approval Order. We will not be addressing the renumbering of rules R307-401-1 through R307-401-8 and R307-401-11 in this action. These rule sections have been superseded and replaced by Utah's October 9, 1998 SIP submittal which EPA will be addressing at a later date. Therefore, current rule sections R307-1-3.1.1, R307-1-3.1.2, R307-1-3.1.3, R307-1-3.1.4, R307-1-3.1.5, R307-1-3.1.6, R307-1-3.1.8, R307-1-3.1.9, and R307-1-3.1.10 which would have been renumbered to rule section R307-401 will remain in the existing SIP. We will also not be acting to approve R307-401-10(2). Rule section R307-401-10(2) has never been approved into the SIP and is not required to be in the federally enforceable SIP.

12. R307-413—Permits: Exemption and Special Provisions. We will not be addressing the renumbering of rules R307-413-1 through R307-413-6. These rule sections will be addressed when EPA addresses Utah's October 9, 1998 SIP submittal. We will also not be addressing rules R307-413-8 and R308-413-9 because these rule sections will be addressed when EPA addresses Utah's January 8, 1999 SIP submittal. Therefore, the definitions that would have been relocated to rule section R307-413 will remain in the current rule section R307-1-1 and current rule section R307-1-3.1.7 and rule section R307-6-1 that would have been renumbered to rule section R307-413 will remain in the existing SIP.

IV. Statutory and Executive Order Review

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission; to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Intergovernmental relations, Carbon Monoxide, Lead, Nitrogen dioxide, Ozone, Particulate matter, Sulfur oxides, Volatile organic compounds, Reporting and recordkeeping requirements.

Dated: September 30, 2005.
Robert E. Roberts,
Regional Administrator, Region 8.

[FR Doc. 05-20518 Filed 10-12-05; 8:45 am]

BILLING CODE 6560-50-P